ENVIRONMENTAL PROTECTION AGENCY

[EPA-HQ-OPP-2018-0262; FRL-9987-45]

Pesticides; Petition Seeking Revised Testing Requirements of Pesticides Prior to Registration; Request for Comment

AGENCY: Environmental Protection Agency (EPA).

ACTION: Notice.

SUMMARY: EPA is seeking public comment on a petition from the Center for Food Safety (CFS) requesting that the Agency revise testing requirements for pesticides prior to registration. The petitioner, CFS, requests that the Agency require testing for whole pesticide formulations to account for the toxicological effects of inert and adjuvant ingredients and the testing of tank mixes to assess the interaction between pesticide ingredients. CSF believes this change is needed to meet the applicable safety standards of the Federal Insecticide, Fungicide, and Rodenticide Act (FIFRA).

DATES: Comments must be received on or before March 21, 2019.

ADDRESSES: Submit your comments, identified by docket identification (ID) number EPA-HQ-OPP-2018-0262, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Connie Hernandez, Field and External Affairs Division, Office of Pesticide Programs, Environmental Protection Agency, 1200 Pennsylvania Ave. NW, Washington, DC 20460-0001; telephone number: (703) 305-5190; email address: hernandez.connie@epa.gov.

SUPPLEMENTARY INFORMATION:

I. Does this action apply to Me?

This action is directed to the public in general and may be of interest to a wide range of stakeholders including pesticide registrants, environmental, human health, and agricultural advocates, pesticide users, and members of the public interested in the use of pesticides. This listing is not intended to be exhaustive but rather provides a guide for readers regarding entities likely to be affected by his action. Because others may also be interested, the Agency has not attempted to describe all the specific entities that may be affected by this action. If you have any questions regarding the applicability of this action to a particular entity, consult the person listed under FOR FURTHER INFORMATION CONTACT.

II. What action is the agency taking?

EPA requests public comment on a petition received from CFS requesting EPA take the following actions:

1. Revise pesticide registration regulations to take into account all pesticide ingredients (active, inert and adjuvant) and their effects on the environment.

2. Revise pesticide registration regulations to require whole pesticide formulation and tank mixture testing to take into account synergistic effects.

3. Revise pesticide registration regulations to require inert ingredients and whole pesticide formulations testing for chronic toxicological effects and degradation.

4. Revise pesticide registration regulations to require Endangered Species Act (ESA) consultation on the effects of whole pesticide formulations and tank mixtures on threatened and endangered species.

5. Comply with the above requirements in conducting statutorily mandated registration reviews of pesticides.

III. What should I consider as I prepare my comments for EPA?

Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

When preparing and submitting your comments, see the commenting tips at http://www.epa.gov/dockets/comments.html.

Authority: 7 U.S.C. 136 et seq.

Dated: December 11, 2018,
Richard Keigwin,
Director, Office of Pesticide Programs.

[FR Doc. 2018-27757 Filed 12-20-18; 8:45 am]

BILLING CODE 6560-50-P